DEPARTMENT OF ENERGY

Federal Energy Regulatory Commission

[Project No. 2454-052]

Notice of Application for Amendment of License and Soliciting Comments, Motions To Intervene, and Protests

November 5, 2002.

Take notice that the following application has been filed with the Commission and is available for public inspection:

a. Application Type: Amendment of License to Change Project Boundary and Approve Revised Exhibits.

b. Project No: 2454-052.

c. Date Filed: May 30, 2002, and supplemented on September 10, 2002.

d. Applicant: Minnesota Power (MP).

e. Name of Project: Sylvan Hydroelectric Project.

f. Location: The project is located on the Crow Wing River, in Cass, Crow Wing, and Morrison Counties, Minnesota. The area proposed to be deleted from the project boundary lies entirely within Morrison County.

g. Filed Pursuant to:Federal Power Act, 16 U.S.C. 791 (a) 825(r) and 799 and 801.

h. Applicant Contact: Bob Bohm, Minnesota Power, P.O. Box 60, Little Falls, MN 56345, (320) 632-2318.

i. FERC Contact: Any questions on this notice should be addressed to Mr. Eric Gross at (202) 502-6213, or e-mail address: eric.gross@ferc.gov.

j. Deadline for filing comments and or motions: December 6, 2002.

All documents (original and eight copies) should be filed with: Magalie R. Salas, Secretary, Federal Energy Regulatory Commission, 888 First Street, NE., Washington DC 20426. Please include the project number (P-2454-052) on any comments or motions filed.

k. Description of Request: MP is proposing to delete from the license 276.50 acres of land within the project boundary and transfer ownership to The Nature Conservancy (TNC). TNC would then trade the land, which borders Camp Ripley, a military base operated by the Minnesota Department of Military Affairs (MDMA), for lands of equal value owned by MDMA and located outside of Camp Ripley. The land will be removed from the project boundary however; MDMA has stated that the former, current, and future uses will not change and that the lands will continue to be open to the public for recreational activities. The campsite near Sylvan Dam will be unaffected by this revision, as it will remain within the revised project boundary, under the ownership of MP.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 or e-mail FERCONLINESUPPORT@FERC.GOV. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Magalie R. Salas,
Secretary.

[FR Doc. 02-28733 Filed 11-8-02; 8:45 am]

BILLING CODE 6717-01-P